DEPARTMENT OF HEALTH AND HUMAN SERVICES

Administration on Aging

Public Information Collection Requirement Submitted to the Office of Management and Budget for Clearance

AGENCY: Administration on Aging, HHS.

The Administration on Aging (AoA), Department of Health and Human Services, in compliance with the Paperwork Reduction Act (Public Law 96-511), is submitting to the Office of Management and Budget for clearance and approval an information collection instrument, entitled Performance (Progress) Reports for Alzheimer's Disease Demonstration Grants to States Program Grantees.

Type of Request: New. The Health Resources and Services Administration previously administered this program.

Use: Consistent with 45 CFR part 74, subpart J, the AoA requires grantees funded under Alzheimer's Disease Demonstration Grants to States Program (ADDGS) to report on the performance of their projects. The report is used by the AoA to review and monitor the grantee's progress in achieving project objectives, to provide advice and assistance, and to take corrective action as necessary.

Frequency: Semiannual.

Respondent: Alzheimer's Disease Demonstration Grants to States Program grantees.

Estimated number of respondents: 25.

Estimated burden hours: 1,000 per year (20 hours for each semiannual report).

Additional Information: Each progress report, typically no more than 10 pages in length, is expected to cover the following subjects: recent major activities and accomplishments, obstacles encountered and solutions, significant findings and events, dissemination activities, and activities planned for the next 6 months. Only states who have voluntarily applied for and been awarded a grant under the Alzheimer's Demonstration Program are required to submit these reports.

OMB Comment: A comment is best assured of having its full effect if OMB receives it as soon as possible after its publication. Written comments and recommendations for the proposed information collection should be sent to the following address within 30 days of the publication of this notice: Office of Information and Regulatory Affairs, Attention: Allison Herron Eydt, AoA Desk Officer, Office of Management and Budget, Washington, DC 20503.

Dated: November 27, 2001.
Josefina G. Carbonell,
Assistant Secretary for Aging.

[FR Doc. 01-31206 Filed 12-18-01; 8:45 am]

BILLING CODE 4154-01-P